DEPARTMENT OF STATE

[Public Notice 6920]

Bureau of Educational and Cultural Affairs (ECA) Request for Grant Proposals: Global Connections and Exchange Program

Announcement Type: New Grant.

Funding Opportunity Number: ECA-PE-C-PY-10-05.

Catalog of Federal Domestic Assistance Number: 19.415.

Key Dates

Application Deadline: April 30, 2010.

Executive Summary

The Youth Programs Division, Office of Citizen Exchanges, of the Bureau of Educational and Cultural Affairs announces an open competition for up to three Global Connections and Exchange programs in specified countries from the following regions: Middle East (Egypt, Jordan, Israel, West Bank/Gaza and Lebanon), East Asia/Pacific (Indonesia, Malaysia, and Vietnam), and Africa (Nigeria, South Africa, Uganda, Zambia, Ethiopia). Public and private non-profit organizations meeting the provisions described in Internal Revenue Code section 26 U.S.C. 501c(3) may submit proposals to facilitate online and face-to-face exchanges between overseas schools and counterparts in the United States.

The Global Connections and Exchange (GCE) program utilizes technology to create an American presence in areas where citizens have little opportunity to travel or participate in exchange programs. Through webchats and discussion boards, foreign youth participate in dialogue with American peers about their lives, families and communities. In addition, a theme-based curriculum will increase understanding of issues relevant to both U.S. and overseas participants. Each regional program also captures the spirit of activism through extracurricular projects that harness the energies of youth to affect positive change.

Applicants may propose to host only one regional project listed under this competition. Should an applicant submit multiple proposals under this competition, all those proposals will be declared technically ineligible and given no further consideration in the review process.

I. Funding Opportunity Description

Authority:

Overall grant making authority for this program is contained in the Mutual Educational and Cultural Exchange Act of 1961, Public Law 87-256, as amended, also known as the Fulbright-Hays Act. The purpose of the Act is “to enable the Government of the United States to increase mutual understanding between the people of the United States and the people of other countries * * *; to strengthen the ties which unite us with other nations by demonstrating the educational and cultural interests, developments, and achievements of the people of the United States and other nations * * * and thus to assist in the development of friendly, sympathetic and peaceful relations between the United States and the other countries of the world.” The funding authority for the program above is provided through legislation.

Overview: The Internet and social networking sites have become prevailing tools of influence among youth throughout the world. Social media such as Facebook, YouTube, mobile technology and blogs offer young people opportunities to connect with peers across borders and tear down misperceptions that lead to misunderstanding. In order to harness these powerful technology tools to remove stereotypes and impel change, youth need to be better equipped to use social networking sites and new technologies in a positive way.

The Global Connections and Exchange program is designed to address these issues by developing a cadre of youth technology leaders who are introduced to a broad range of ideas and resources through the use of information and communication technologies. By participating in this yearlong program, high school students and teachers expand their computer literacy skills, improve general education, and gain a deeper understanding of diverse societies and values. As a result, students increase their understanding of foreign cultures, expand their perspectives regarding contemporary issues and are better able to use technology to influence change. The goals of the program are to:

• Generate personal and institutional ties between youth and educators in the United States and their overseas counterparts;

• Improve educational tools, resources, and learning through the application of computer technology, online resource development, and student collaboration.

• Empower youth to act as catalysts of change in their communities through multimedia outreach and leadership skills development.

Information about similar programs can be found at: http://exchanges.state.gov/youth/programs/connections.html

ECA plans to award multiple grants for the management of the Global Connections and Exchange program for countries or special areas [specified below] in the Middle East, East Asia/Pacific and Africa. The grant period will be 12-18 months in duration. Applicants should select the region and theme with which they plan to work, and present a strong justification for their choices in their proposals.

• East Asia/Pacific Regional Project—Indonesia, Malaysia, and Vietnam (any proposal for East Asia/Pacific must involve all three countries);

• Middle East Regional Project—Israel and at least two of the following: Egypt, Jordan, West Bank/Gaza and Lebanon;

• Africa Regional Project—Nigeria, South Africa, Uganda, Zambia, Ethiopia (at least three countries)

Please note: Applicants may not include countries not listed and may not combine countries across regions.

An essential element of all projects will be to build mutual understanding and respect among the people of the United States and people of the partner countries. Programs will encourage respect for diversity, develop leadership skills, and promote problem-solving and critical thinking. Each regional program will include: (1) A theme-based project relevant to U.S. and overseas schools; (2) two-way exchanges for a small number of youth and one adult educator from each country; (3) a social networking site; (4) community service projects; and (5) a plan for continued communication once the grant expires.

Themes:A successful project will focus on a specific theme by initiating a wide range of on-line and off-line activities throughout the academic year. Applicants must choose one of the following themes:

(1) Environment—Participants will complete projects that tackle issues such as pollution, recycling, water consumption and conservation, waste management and other relevant topics that increase environmental awareness.

(2) Rule of Law—Projects will focus on social issues and ways in which government policy and respective justice systems deal with these issues. Projects may include debates, research, advocacy, and community outreach.

(3) Social Entrepreneurship—Participants will gain financial literacy skills and learn the difference between social and business sector definitions of entrepreneurship. Students will work together to design and operate social entrepreneurial projects that benefit their schools and communities.

(4) Media Literacy—Participants will compare and contrast the role of media in their communities, analyze different media forms and create simple messages that influence others to take action.

(5) Food Security—Participants will discuss and compare the agricultural production, nutrition, and accessibility of food in their respective societies. Students will create Web sites and other multimedia as an educational tool and share information about local organizations that address food and security needs.

Applicants should identify specific objectives and measurable outcomes based on program goals and project specifications provided in the solicitation. Should organizations wish to conduct the program in more than one region, they must submit a separate proposal for each.

Organizational Capacity: Applicants must demonstrate their capacity for conducting online programs, or they must partner with an organization or institution with the requisite capacity to create, monitor and evaluate a program of this nature. This includes the following elements: (1) Administrative infrastructure in the geographic areas from which schools will be selected; (2) technical expertise to create a web-based, multi-faceted curriculum focusing on a specific theme; (3) social networking expertise to monitor the Web site, create topics of discussion, and train participants in proactive communication to encourage interaction.

Grants to be awarded under this competition will be based upon the quality and responsiveness of proposals to the review criteria presented later in this RFGP. The grants should begin on or about August 1, 2010, subject to availability of funds.

The Bureau reserves the right to reduce, revise, or increase proposal budgets in accordance with the needs of the program and the availability of funds.

Participants: A specified number of youth, 15 to 17 years old, must be competitively selected to participate in yearlong, theme-focused projects. Depending on how the program will be managed and implemented, students may be selected from one or more classrooms or schools. Proposals should indicate if the project will be conducted as part of the class curriculum or as an after-school activity. Proposals should also define criteria for student selection and indicate how students will be rewarded for participation. One educator and a small number of youth who are part of this prestigious group will be eligible to visit their partners on a three-week exchange.

Concurrently, the social networking site should engage educators and students from as many classes and/or schools as possible. Proposals should include a plan to train and motivate participants to lead discussions, write blogs and inspire others to become active social networkers.

Guidelines: Beginning on or about August 1, 2010, activities will include recruitment and selection of participants, development of a web environment to support a theme-based curriculum, creation of a social networking site, development of reciprocal exchange activities, and support of follow-on activities. Online interaction through the social networking site will begin at the start of the school year in September 2010. Activities involving project themes may begin no later than November 1, 2010. Reciprocal exchanges should occur in 2011, preferably while schools are in session.

Once the grant is awarded, the recipient must select a group of youth participants and at least one educator to be active participants in theme-based activities that involve Web-based interaction, research, and other technical applications that result in concrete outputs. Grant recipients are encouraged to incorporate webchats, community service and international events and competitions into the overall design of the curriculum. Examples include the Department's Doors to Diplomacy competition (http://future.state.gov/news/115213.htm), International Education Week (http://iew.state.gov/), and Global Youth Service Day (http://gysd.org/), among others.

The grant recipient will select exchange participants among those most actively involved in the project theme. Responsibilities include: (1) Provide orientations for exchange participants and host schools and families; (2) manage all logistical arrangements; (3) provide for a meaningful cultural and educational experience that includes theme-based activities, country presentations at schools and community centers and at least one community service activity; (4) develop action plans for continued communication and youth-led activities upon participants' return home.

Added Notes: Grant recipients will identify the program as the “Global Connections and Exchange (GCE)” at all times. Web sites and other materials must acknowledge the U.S. Department of State as the sponsor, with specific recognition of the Bureau of Educational and Cultural Affairs. The Bureau will retain copyright use of and be allowed to distribute materials related to this program, as appropriate. Grant recipients must also inform the ECA Program Officer of their progress at each stage of the project's implementation in a timely fashion.

II. Award Information

Type of Award: Grant Agreement.

Fiscal Year Funds: 2010.

Approximate Total Funding: $650,000.

Approximate Number of Awards: Three.

Approximate Average Award: $220,000.

Anticipated Award Date: August 1, 2010.

Anticipated Project Completion Date: 12-18 months after start date, to be specified by applicant.

III. Eligibility Information

III.1. Eligible Applicants

Applications may be submitted by public and private non-profit organizations meeting the provisions described in Internal Revenue Code section 26 USC 501(c)(3).

III.2. Cost Sharing or Matching Funds

There is no minimum or maximum percentage required for this competition. However, the Bureau encourages applicants to provide maximum levels of cost sharing and funding in support of its programs.

When cost sharing is offered, it is understood and agreed that the applicant must provide the amount of cost sharing as stipulated in its proposal and later included in an approved agreement. Cost sharing may be in the form of allowable direct or indirect costs. For accountability, you must maintain written records to support all costs which are claimed as your contribution, as well as costs to be paid by the Federal government. Such records are subject to audit. The basis for determining the value of cash and in-kind contributions must be in accordance with OMB Circular A-110, (Revised), Subpart C.23—Cost Sharing and Matching. In the event you do not provide the minimum amount of cost sharing as stipulated in the approved budget, ECA's contribution will be reduced in like proportion.

III.3. Other Eligibility Requirements

(a) Bureau grant guidelines require that organizations with less than four years experience in conducting international exchanges be limited to $60,000 in Bureau funding. ECA anticipates making awards for each of the three programs in amounts exceeding $60,000 to support program and administrative costs required to facilitate activities. Therefore, organizations with less than four years experience in conducting international exchanges are ineligible to apply for either of the two grants. However, organizations are strongly encouraged to offer sub-awards in order to strengthen capacity, enhance diversity and expand opportunities to organizations otherwise ineligible to apply.

(b) Technical Eligibility: It is the Bureau's intent to award three separate grants to three different institutions under this competition. Therefore, prospective applicants may submit only one proposal under this competition. All applicants must comply with this requirement. Should an applicant submit multiple proposals under this competition, all proposals will be declared technically ineligible and given no further consideration in the review process.

IV. Application and Submission Information

Note: Please read the complete announcement before sending inquiries or submitting proposals. Once the RFGP deadline has passed, Bureau staff may not discuss this competition with applicants until the proposal review process has been completed.

IV.1. Contact Information To Request an Application Package

Please contact the Office of Citizen Exchanges, ECA-PE-C-PY, Room 568, U.S. Department of State, SA-5, 2200 C Street, NW., Washington, DC 20037, telephone: 202-632-6427, fax number: 202-632-9355, e-mail: MussmanAP@state.gov to request a Solicitation Package. Please refer to the Funding Opportunity Number (ECA-PE-C-PY-10-05) located at the top of this announcement when making your request.

Alternatively, an electronic application package may be obtained from grants.gov. Please see section IV.3f for further information.

The Solicitation Package contains the Proposal Submission Instruction (PSI) document which consists of required application forms, and standard guidelines for proposal preparation.

It also contains the Project Objectives, Goals and Implementation (POGI), which provides specific information, award criteria and budget instructions tailored to this competition.

Please specify Anna Mussman and refer to the Funding Opportunity Number (ECA-PE-C-PY-10-05) located at the top of this announcement on all other inquiries and correspondence.

IV.2. To Download a Solicitation Package Via Internet

The entire Solicitation Package may be downloaded from the Bureau's Web site at http://exchanges.state.gov/grants/open2.html, or from the Grants.gov Web site at http://www.grants.gov.

Please read all information before downloading.

IV.3. Content and Form of Submission

Applicants must follow all instructions in the Solicitation Package. The application should be submitted per the instructions under “Application Deadline and Methods of Submission” under the section below (IV.3f).

IV.3a. You are required to have a Dun and Bradstreet Data Universal Numbering System (DUNS) number to apply for a grant or cooperative agreement from the U.S. Government. This number is a nine-digit identification number, which uniquely identifies business entities. Obtaining a DUNS number is easy and there is no charge. To obtain a DUNS number, access http://www.dunandbradstreet.com or call 1-866-705-5711. Please ensure that your DUNS number is included in the appropriate box of the SF-424 which is part of the formal application package.

IV.3b. All proposals must contain an executive summary, proposal narrative and budget. Please Refer to the Solicitation Package. It contains the mandatory Proposal Submission Instructions (PSI) document and the Project Objectives, Goals and Implementation (POGI)document for additional formatting and technical requirements.

IV.3c. You must have nonprofit status with the IRS at the time of application. Please note: Effective January 7, 2009, all applicants for ECA federal assistance awards must include in their application the names of directors and/or senior executives (current officers, trustees, and key employees, regardless of amount of compensation). In fulfilling this requirement, applicants must submit information in one of the following ways:

(1) Those who file Internal Revenue Service Form 990, “Return of Organization Exempt From Income Tax,” must include a copy of relevant portions of this form.

(2) Those who do not file IRS Form 990 must submit information above in the format of their choice.

In addition to final program reporting requirements, award recipients will also be required to submit a one-page document, derived from their program reports, listing and describing their grant activities. For award recipients, the names of directors and/or senior executives (current officers, trustees, and key employees), as well as the one- page description of grant activities, will be transmitted by the State Department to OMB, along with other information required by the Federal Funding Accountability and Transparency Act (FFATA), and will be made available to the public by the Office of Management and Budget on its USASpending.gov Web site as part of ECA's FFATA reporting requirements.

If your organization is a private nonprofit which has not received a grant or cooperative agreement from ECA in the past three years, or if your organization received nonprofit status from the IRS within the past four years, you must submit the necessary documentation to verify nonprofit status as directed in the PSI document. Failure to do so will cause your proposal to be declared technically ineligible.

IV.3d. Please take into consideration the following information when preparing your proposal narrative:

IV.3d.1 Adherence to All Regulations Governing the J Visa

The Office of Citizen Exchanges of the Bureau of Educational and Cultural Affairs is the official program sponsor of the exchange program covered by this RFGP, and an employee of the Bureau will be the “Responsible Officer” for the program under the terms of 22 CFR part 62, which covers the administration of the Exchange Visitor Program (J visa program). Under the terms of 22 CFR part 62, organizations receiving grant awards under this RFGP will be third parties “cooperating with or assisting the sponsor in the conduct of the sponsor's program.” The actions of recipient organizations shall be “imputed to the sponsor in evaluating the sponsor's compliance with” 22 CFR part 62.

Therefore, the Bureau expects that any organization receiving an award under this competition will render all assistance necessary to enable the Bureau to fully comply with 22 CFR part 62 et seq.

The Bureau of Educational and Cultural Affairs places critically important emphases on the secure and proper administration of Exchange Visitor (J visa) Programs and adherence by recipient organizations and program participants to all regulations governing the J visa program status. Therefore, proposals should explicitly state in writing that the applicant is prepared to assist the Bureau in meeting all requirements governing the administration of Exchange Visitor Programs as set forth in 22 CFR part 62. If your organization has experience as a designated Exchange Visitor Program Sponsor, the applicant should discuss their record of compliance with 22 CFR part 62 et. seq., including the oversight of their Responsible Officers and Alternate Responsible Officers, screening and selection of program participants, provision of pre-arrival information and orientation to participants, monitoring of participants, proper maintenance and security of forms, record-keeping, reporting and other requirements. The Office of Citizen Exchanges of ECA will be responsible for issuing DS-2019 forms to participants in this program.

A copy of the complete regulations governing the administration of Exchange Visitor (J) programs is available at http://exchanges.state.gov or from: Office of Designation, ECA/EC/ECD, SA-5, Floor C2, Department of State, Washington, DC 20522-0582.

IV.3d.2 Diversity, Freedom and Democracy Guidelines

Pursuant to the Bureau's authorizing legislation, programs must maintain a non-political character and should be balanced and representative of the diversity of American political, social, and cultural life. “Diversity” should be interpreted in the broadest sense and encompass differences including, but not limited to, ethnicity, race, gender, religion, geographic location, socio-economic status, and disabilities. Applicants are strongly encouraged to adhere to the advancement of this principle both in program administration and in program content. Please refer to the review criteria under the ‘Support for Diversity’ section for specific suggestions on incorporating diversity into your proposal. Public Law 104-319 provides that “in carrying out programs of educational and cultural exchange in countries whose people do not fully enjoy freedom and democracy,” the Bureau “shall take appropriate steps to provide opportunities for participation in such programs to human rights and democracy leaders of such countries.” Public Law 106-113 requires that the governments of the countries described above do not have inappropriate influence in the selection process. Proposals should reflect advancement of these goals in their program contents, to the full extent deemed feasible.

IV.3d.3. Program Monitoring and Evaluation

Proposals must include a plan to monitor and evaluate the project's success, both as the activities unfold and at the end of the program. The Bureau recommends that your proposal include a draft survey questionnaire or other technique plus a description of a methodology to use to link outcomes to original project objectives. The Bureau expects that the recipient organization will track participants or partners and be able to respond to key evaluation questions, including satisfaction with the program, learning as a result of the program, changes in behavior as a result of the program, and effects of the program on institutions (institutions in which participants work or partner institutions). The evaluation plan should include indicators that measure gains in mutual understanding as well as substantive knowledge.

Successful monitoring and evaluation depend heavily on setting clear goals and outcomes at the outset of a program. Your evaluation plan should include a description of your project's objectives, your anticipated project outcomes, and how and when you intend to measure these outcomes (performance indicators). The more that outcomes are “smart” (specific, measurable, attainable, results-oriented, and placed in a reasonable time frame), the easier it will be to conduct the evaluation. You should also show how your project objectives link to the goals of the program described in this RFGP.

Your monitoring and evaluation plan should clearly distinguish between program outputs and outcomes. Outputs are products and services delivered, often stated as an amount. Output information is important to show the scope or size of project activities, but it cannot substitute for information about progress towards outcomes or the results achieved. Examples of outputs include the number of people trained or the number of seminars conducted. Outcomes, in contrast, represent specific results a project is intended to achieve and is usually measured as an extent of change.

Findings on outputs and outcomes should both be reported, but the focus should be on outcomes.

We encourage you to assess the following four levels of outcomes, as they relate to the program goals set out in the RFGP (listed here in increasing order of importance):

1. Participant satisfaction with the program and exchange experience.

2. Participant learning, such as increased knowledge, aptitude, skills, and changed understanding and attitude. Learning includes both substantive (subject-specific) learning and mutual understanding.

3. Participant behavior, concrete actions to apply knowledge in work or community; greater participation and responsibility in civic organizations; interpretation and explanation of experiences and new knowledge gained; continued contacts between participants, community members, and others.

4. Institutional changes, such as increased collaboration and partnerships, policy reforms, new programming, and organizational improvements.

Please note: Consideration should be given to the appropriate timing of data collection for each level of outcome. For example, satisfaction is usually captured as a short-term outcome, whereas behavior and institutional changes are normally considered longer-term outcomes.

Overall, the quality of your monitoring and evaluation plan will be judged on how well it (1) specifies intended outcomes; (2) gives clear descriptions of how each outcome will be measured; (3) identifies when particular outcomes will be measured; and (4) provides a clear description of the data collection strategies for each outcome (i.e., surveys, interviews, or focus groups). (Please note that evaluation plans that deal only with the first level of outcomes [satisfaction] will be deemed less competitive under the present evaluation criteria.)

Recipient organizations will be required to provide reports analyzing their evaluation findings to the Bureau in their regular program reports. All data collected, including survey responses and contact information, must be maintained for a minimum of three years and provided to the Bureau upon request.

IV.3d.4. Describe your plans for: Sustainability, overall program management, staffing, school linkages and projects, reciprocal exchanges, and coordination with ECA and PAS.

IV.3e. Please take the following information into consideration when preparing your budget:

IV.3e.1. Applicants must submit SF-424A—“Budget Information—Non-Construction Programs” along with a comprehensive budget for the entire program. There must be a summary budget as well as breakdowns reflecting both administrative and program budgets. Applicants may provide separate sub-budgets for each program component, phase, location, or activity to provide clarification.

IV.3e.2. Allowable costs for the program include the following:

(1) Stipends for U.S. and overseas educators;

(2) Small grants to support community service projects;

(3) Competitions and other types of incentives;

(4) Reciprocal exchanges for a small group of students and one educator to/from the United States.

Organizations are required to use free and existing Web sites for purposes of social networking and project implementation. Please refer to the Solicitation Package for complete budget guidelines and formatting instructions.

IV.3f. Application Deadline and Methods of Submission:

Application Deadline Date: April 30, 2010.

Reference Number: ECA-PE-C-PY-10-05.

Methods of Submission:

Applications may be submitted in one of two ways:

(1) In hard-copy, via a nationally recognized overnight delivery service (i.e., DHL, Federal Express, UPS, Airborne Express, or U.S. Postal Service Express Overnight Mail, etc.), or

(2) Electronically through http://www.grants.gov.

Along with the Project Title, all applicants must enter the above Reference Number in Box 11 on the SF-424 contained in the mandatory Proposal Submission Instructions (PSI) of the solicitation document.

IV.3f.1 Submitting Printed Applications

Applications must be shipped no later than the above deadline. Delivery services used by applicants must have in-place, centralized shipping identification and tracking systems that may be accessed via the Internet and delivery people who are identifiable by commonly recognized uniforms and delivery vehicles. Proposals shipped on or before the above deadline but received at ECA more than seven days after the deadline will be ineligible for further consideration under this competition. Proposals shipped after the established deadlines are ineligible for consideration under this competition. ECA will not notify you upon receipt of application. It is each applicant's responsibility to ensure that each package is marked with a legible tracking number and to monitor/confirm delivery to ECA via the Internet. Delivery of proposal packages may not be made via local courier service or in person for this competition. Faxed documents will not be accepted at any time. Only proposals submitted as stated above will be considered.

Important note: When preparing your submission please make sure to include one extra copy of the completed SF-424 form and place it in an envelope addressed to “ECA/EX/PM”.

The original and eight (8) copies of the application should be sent to: Program Management Division, ECA-IIP/EX/PM, Ref.: ECA-PE-C-PY-10-05, SA-5, Floor 4, Department of State, 2200 C Street, NW., Washington, DC 20522-0504.

Applicants submitting hard-copy applications must also submit the “Executive Summary” and “Proposal Narrative” sections of the proposal in text (.txt) or Microsoft Word format on a PC-formatted disk. The Bureau will provide these files electronically to the appropriate Public Affairs Section(s) at the U.S. embassies for their review.

IV.3f.2—Submitting Electronic Applications

Applicants have the option of submitting proposals electronically through Grants.gov (http://www.grants.gov).

Complete solicitation packages are available at Grants.gov in the “Find” portion of the system.

Please Note: ECA bears no responsibility for applicant timeliness of submission or data errors resulting from transmission or conversion processes for proposals submitted via Grants.gov.

Please follow the instructions available in the “Get Started” portion of the site (http://www.grants.gov/GetStarted).

Several of the steps in the Grants.gov registration process could take several weeks. Therefore, applicants should check with appropriate staff within their organizations immediately after reviewing this RFGP to confirm or determine their registration status with Grants.gov.

Once registered, the amount of time it can take to upload an application will vary depending on a variety of factors including the size of the application and the speed of your internet connection. In addition, validation of an electronic submission via Grants.gov can take up to two business days.

Therefore, we strongly recommend that you not wait until the application deadline to begin the submission process through Grants.gov.

The Grants.gov Web site includes extensive information on all phases/aspects of the Grants.gov process, including an extensive section on frequently asked questions, located under the “For Applicants” section of the Web site. ECA strongly recommends that all potential applicants review thoroughly the Grants.gov Web site, well in advance of submitting a proposal through the Grants.gov system. ECA bears no responsibility for data errors resulting from transmission or conversion processes.

Direct all questions regarding Grants.gov registration and submission to: Grants.gov Customer Support.

Contact Center Phone: 800-518-4726.

Business Hours: Monday-Friday, 7a.m.-9 p.m. Eastern Time,

E-mail: support@grants.gov.

Applicants have until midnight (12 a.m.), Washington, DC time of the closing date to ensure that their entire application has been uploaded to the Grants.gov site. There are no exceptions to the above deadline. Applications uploaded to the site after midnight of the application deadline date will be automatically rejected by the grants.gov system, and will be technically ineligible.

Please refer to the Grants.gov Web site, for definitions of various “application statuses” and the difference between a submission receipt and a submission validation.

Applicants will receive a validation e-mail from grants.gov upon the successful submission of an application. Again, validation of an electronic submission via Grants.gov can take up to two business days. Therefore, we strongly recommend that you not wait until the application deadline to begin the submission process through Grants.gov. ECA will not notify you upon receipt of electronic applications.

It is the responsibility of all applicants submitting proposals via the Grants.gov web portal to ensure that proposals have been received by Grants.gov in their entirety, and ECA bears no responsibility for data errors resulting from transmission or conversion processes.

IV.3g. Intergovernmental Review of Applications: Executive Order 12372 does not apply to this program.

V. Application Review Information

V.1. Review Process

The Bureau will review all proposals for technical eligibility. Proposals will be deemed ineligible if they do not fully adhere to the guidelines stated herein and in the Solicitation Package. All eligible proposals will be reviewed by the program office, as well as the Public Diplomacy section overseas, where appropriate. Eligible proposals will be subject to compliance with Federal and Bureau regulations and guidelines and forwarded to Bureau grant panels for advisory review. Proposals may also be reviewed by the Office of the Legal Adviser or by other Department elements. Final funding decisions are at the discretion of the Department of State's Assistant Secretary for Educational and Cultural Affairs. Final technical authority for grants resides with the Bureau's Grants Officer.

Review Criteria

Technically eligible applications will be competitively reviewed according to the criteria stated below. These criteria are not rank ordered and all carry equal weight in the proposal evaluation:

1. Program Planning/Ability to Achieve Program: Proposals should clearly convey a feasible plan that supports program goals and is relevant to the Bureau's mission. The substance of online activities should be described in detail. A detailed agenda and relevant work plan should adhere to the program overview and guidelines described above. Reviewers will evaluate how training and the curriculum will support online learning and collaboration among students. They will also assess how objectives will be achieved and assure that the timetable is feasible for completion of major tasks.

2. Support of Diversity: Proposals should demonstrate substantive support of the Bureau's policy on diversity. Geographic, gender and socio-economic diversity should be reflected in the selection of schools and participants. The curriculum content should reinforce cultural diversity in the broadest sense of the term.

3. Institutional Capacity/Track Record: Proposed personnel and institutional resources in both the United States and in the partner countries should be adequate and appropriate to achieve the program goals. Proposals should exhibit significant experience in social networking as well as implementing web-based educational projects at the high school level. Reviewers will assess the organization's institutional record of successful programs, including responsible fiscal management and full compliance with all reporting requirements as determined by the Bureau's Grants Division. The Bureau will consider the past performance of prior recipients and the demonstrated potential of new applicants.

4. Follow-on Activities: Proposals should provide a plan for continued follow-on activity (without Bureau support) ensuring that Bureau supported programs are not isolated events. Reviewers will examine ways in which social networking sites are managed and their applicability for use when funds are no longer available.

5. Project Evaluation: Proposals should include a plan to evaluate the activity's success, both as the activities unfold and at the end of the program. A draft survey questionnaire or other technique plus description of a methodology to use to link outcomes to original project objectives is strongly recommended, particularly for prior grant recipients implementing similar programs.

6. Cost-effectiveness/Cost sharing: The overhead and administrative components of the proposal, including salaries and honoraria, should be kept as low as possible. All other items should be necessary and appropriate. Proposals should maximize cost-sharing through other private sector support as well as institutional direct funding contributions.

VI. Award Administration Information

VI.1a. Award Notices

Final awards cannot be made until funds have been appropriated by Congress, allocated and committed through internal Bureau procedures. Successful applicants will receive a Federal Assistance Award (FAA) from the Bureau's Grants Office. The FAA and the original proposal with subsequent modifications (if applicable) shall be the only binding authorizing document between the recipient and the U.S. Government. The FAA will be signed by an authorized Grants Officer, and mailed to the recipient's responsible officer identified in the application.

Unsuccessful applicants will receive notification of the results of the application review from the ECA program office coordinating this competition.

VI.1b The following additional requirements apply to this project

For assistance awards involving the Palestinian Authority, West Bank, and Gaza:

All awards made under this competition must be executed according to all relevant U.S. laws and policies regarding assistance to the Palestinian Authority, and to the West Bank and Gaza. Organizations must consult with relevant Public Affairs Offices before entering into any formal arrangements or agreements with Palestinian organizations or institutions.

Note: To assure that planning for the inclusion of the Palestinian Authority complies with requirements, please contact Program Officer Anna Mussman (tel.: 202-632-6427, e-mail: MussmanAP@state.gov) for additional information.

VI.2 Administrative and National Policy Requirements

Terms and Conditions for the administration of ECA agreements include the following:

Office of Management and Budget Circular A-122, “Cost Principles for Nonprofit Organizations.”

Office of Management and Budget Circular A-21, “Cost Principles for Educational Institutions.”

OMB Circular A-87, “Cost Principles for State, Local and Indian Governments.”

OMB Circular No. A-110 (Revised), Uniform Administrative Requirements for Grants and Agreements with Institutions of Higher Education, Hospitals, and Other Nonprofit Organizations.

OMB Circular No. A-102, Uniform Administrative Requirements for Grants-in-Aid to State and Local Governments.

OMB Circular No. A-133, Audits of States, Local Government, and Non-profit Organizations.

Please reference the following Web sites for additional information: http://www.whitehouse.gov/omb/grants. http://fa.statebuy.state.gov.

VI.3. Reporting Requirements

You must provide ECA with a hard copy original of the following reports plus two copies of the following reports:

(1) A final program and financial report no more than 90 days after the expiration of the award;

(2) A concise, one-page final program report summarizing program outcomes no more than 90 days after the expiration of the award. This one-page report will be transmitted to OMB, and be made available to the public via OMB's USAspending.gov Web site—as part of ECA's Federal Funding Accountability and Transparency Act (FFATA) reporting requirements.

(3) A SF-PPR, “Performance Progress Report” Cover Sheet with all program reports.

(4) One interim report, midway into the program, describing activities and progress.

Award recipients will be required to provide reports analyzing their evaluation findings to the Bureau in their regular program reports. (Please refer to IV. Application and Submission Instructions (IV.3.d.3) above for Program Monitoring and Evaluation information.

All data collected, including survey responses and contact information, must be maintained for a minimum of three years and provided to the Bureau upon request.

All reports must be sent to the ECA Grants Officer and ECA Program Officer listed in the final assistance award document.

VI.4. Program Data Requirements

Award recipients will be required to maintain specific data on program participants and activities in an electronically accessible database format that can be shared with the Bureau as required. As a minimum, the data must include the following:

(1) Name, address, contact information of all persons who travel internationally on funds provided by the agreement.

(2) Itineraries of international and domestic travel, providing dates of travel and cities in which any exchange experiences take place. Final schedules for in-country and U.S. activities must be received by the ECA Program Officer at least three work days prior to the official opening of the activity.

(3) Information about schools including, but not limited to, location, demography, participating teachers and students.

Note: All travelers must have been selected to participate in theme-based projects. Collaboration with partner country and school will determine travel itinerary.

VII. Agency Contacts

For questions about this announcement, contact: Anna Mussman, Office of Citizen Exchanges, ECA-PE-C-PY, Room 3-H17, ECA-PE-C-PY-10-05, U.S. Department of State, SA-5, 2200 C Street, NW., Washington, DC 20037, telephone: 202-632-6427, fax number: 202-632-9355, E-mail: MussmanAP@state.gov.

All correspondence with the Bureau concerning this RFGP should reference the above title and number: ECA-PE-C-PY-10-05.

Please read the complete announcement before sending inquiries or submitting proposals. Once the RFGP deadline has passed, Bureau staff may not discuss this competition with applicants until the proposal review process has been completed.

VIII. Other Information

Notice: The terms and conditions published in this RFGP are binding and may not be modified by any Bureau representative. Explanatory information provided by the Bureau that contradicts published language will not be binding. Issuance of the RFGP does not constitute an award commitment on the part of the Government. The Bureau reserves the right to reduce, revise, or increase proposal budgets in accordance with the needs of the program and the availability of funds. Awards made will be subject to periodic reporting and evaluation requirements per section VI.3 above.

Dated: March 5, 2010.
Maura M. Pally,
Acting Assistant Secretary for Educational and Cultural Affairs, U.S. Department of State.

[FR Doc. 2010-5489 Filed 3-11-10; 8:45 am]

BILLING CODE 4710-05-P